DEPARTMENT OF HOUSING AND URBAN DEVELOPMENT

[Docket No. FR-5909-N-38]

30-Day Notice of Proposed Information Collection: Office of Hospital Facilities Transactional Forms for FHA Programs 242, 241, 223(f), 223(a)(7)

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: June 30, 2016.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov

FOR FURTHER INFORMATION CONTACT: Paul Giaudrone, Underwriting Director, Office of Hospital Facilities, Office of Healthcare Programs, Office of Housing, Department of Housing and Urban Development, 451 7th Street, SW., Room 2247, Washington, DC 20410-0500; email: paul.giaudrone@hud.gov; telephone number 202-708-0599 (this is not a toll-free number). Persons with hearing or speech disabilities may access this number through TTY by calling the toll-free Federal Relay Service at 1-800-877-8339.

The documents that are the subject of this notice can be viewed on HUD's Web site: http://portal.hud.gov/hudportal/HUD?src=/federal_housing_administration/healthcare_facilities/section_242/additional_resources/242_redlines_0815.

Copies of available documents submitted to OMB may be obtained from Ms. Pollard.

SUPPLEMENTARY INFORMATION: This notice informs the public that HUD is seeking approval from OMB for the information collection described in Section A.

The Federal Register notice that solicited public comment on the information collection for a period of 60 days was published on October 9, 2015 at 80 FR 61225.

A. Overview of Information Collection

Title of Information Collection: Office of Hospital Facilities Transactional Forms for FHA Programs 242, 241, 223(f), 223(a)(7).

OMB Approval Number: 2502-0602.

Type of Request: Revision of currently approved collection.

Form Number: HUD-91070-OHF, HUD-91071-OHF, HUD-91073-OHF, HUD-91111-OHF, HUD-91725-OHF, HUD-92013-OHF, HUD-92023-OHF, HUD-92070-OHF, HUD-92080-OHF, HUD-92117-OHF, HUD-92205-OHF, HUD-92223-OHF, HUD-92322-OHF, HUD-92330-OHF, HUD-92330A-OHF, HUD-92403-OHF, HUD-92403A-OHF, HUD-92415-OHF, HUD-92422-OHF, HUD-92434-OHF, HUD-92441-OHF, HUD-92442-OHF, HUD-92448-OHF, HUD-92452-OHF, HUD-92452A-OHF, HUD-92455-OHF, HUD-92456-OHF, HUD-92464-OHF, HUD-92466-OHF, HUD-92476-OHF, HUD-92476A-OHF, HUD-92479-OHF, HUD-9250-OHF, HUD-92554-OHF, HUD-92576-OHF, HUD-93305-OHF, HUD-94000-OHF, HUD-94001-OHF, HUD-94128-OHF

Description of the need for the information and proposed use: The included collection comprises the comprehensive documents necessary for the application, review, commitment, administration, technical oversight, audit and initial/final endorsement of Office of Hospital Facilities projects pursuant to FHA Programs 242, 241, 223(f), and 223(a)(7). The collection corrects, revises, updates, and supersedes the previous collection approved in February 2014.

Respondents (i.e. affected public): Borrowers, lenders, contractors, architects, and engineers that participate in the application, procedure, project administration and initial/final endorsement of FHA hospital mortgage insurance projects.

Estimated Number of Respondents: 506.

Estimated Number of Responses: 1,080.

Frequency of Response: 68.

Average Hours per Response: 122.

Total Estimated Burdens: $5,531,419.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: May 24, 2016.
Colette Pollard,
Department Reports Management Officer, Office of the Chief Information Officer.

[FR Doc. 2016-12731 Filed 5-27-16; 8:45 am]

BILLING CODE 4210-67-P